DEPARTMENT OF COMMERCE

National Oceanic and Atmospheric Administration

50 CFR Part 300

[Docket No. 991220343-0071-02; I.D. 120999D]

RIN 0648-AM52

Pacific Halibut Fisheries; Catch Sharing Plans; Correction

AGENCY: National Marine Fisheries Service (NMFS), National Oceanic and Atmospheric Administration (NOAA), Commerce.

ACTION: Final rule; correction.

SUMMARY: This document corrects the final rule, published in the Federal Register on March 20, 2000, which contains annual management measures for Pacific halibut fisheries and an approval of catch sharing plans.

DATES: Effective March 15, 2000.

FOR FURTHER INFORMATION CONTACT: James Hale, 907-586-4345, or Yvonne deReynier, 206-526-6140.

SUPPLEMENTARY INFORMATION: A final rule was published in the Federal Register on March 20, 2000 (65 FR 14909), to publish annual management measures on behalf of the International Pacific Halibut Commission and to announce approval of modifications to the Catch Sharing Plan and implementing regulations for Area 2A.

An editorial comment was unintentionally added to the preamble of the final rule, which must be removed.

Correction

In the final rule Pacific Halibut Fisheries; Catch Sharing Plans, published in 65 FR 14909, March 20, 2000, FR Doc 00-6837, on page 14912, in the second column, in paragraph (2), the last two sentences are removed.

Dated: March 30, 2000.
Penelope D. Dalton,
Assistant Administrator for Fisheries, National Marine Fisheries Service.

[FR Doc. 00-8395 Filed 4-4-00; 8:45 am]

BILLING CODE 3510-22-F